DEPARTMENT OF COMMERCE

National Oceanic and Atmospheric Administration

RIN 0648-XP17

Endangered Species; File No.14381 ; Correction

AGENCY: National Marine Fisheries Service (NMFS), National Oceanic and Atmospheric Administration (NOAA), Commerce.

ACTION: Notice; receipt of application; correction.

SUMMARY: On May 13, 2009, a notice was published in the Federal Register announcing that the NMFS Pacific Islands Region, 1601 Kapiolani Boulevard, Honolulu, HI 96814, had applied in due form for a permit to take green (Chelonia mydas), leatherback (Dermochelys coriacea), loggerhead (Caretta caretta), olive ridley (Lepidochelys olivacea), and hawksbill (Eretmochelys imbricata) sea turtles for purposes of scientific research. That document inadvertently provided incorrect requested take numbers. This document corrects that oversight.

DATES: Written, telefaxed, or e-mail comments must be received on or before June 22, 2009.

FOR FURTHER INFORMATION CONTACT: Patrick Opay, (301)713-2289.

SUPPLEMENTARY INFORMATION:

Correction

The notice of a request for scientific research Permit No. 14381 (74 FR 22517; May 13, 2009) contained an error in that it incorrectly presented the proposed requested take for the requested action. Accordingly, the SUPPLEMENTARY INFORMATION section is corrected to read as follows:

The subject permit is requested under the authority of the Endangered Species Act of 1973, as amended (ESA; 16 U.S.C. 1531 et seq.) and the regulations governing the taking, importing, and exporting of endangered and threatened species (50 CFR parts 222-226).

The research would collect scientific data on sea turtles incidentally captured in the Hawaii Deep-Set Longline Fishery, the Hawaii Shallow-Set Longline Fishery, and the American Samoa Longline Fishery. This data would assist NMFS efforts to understand sea turtle interactions with the fisheries and to mitigate their threat to these species. The applicant proposes to flipper tag, measure, photograph, tissue sample, and attach satellite tags to an anticipated annual take of up to 46 loggerhead, 16 leatherback, 1 green, and 4 olive ridley sea turtles captured in the Hawaii Shallow-Set Longline Fishery. The applicant proposes to flipper tag, measure, photograph, tissue sample, and attach satellite tags to an anticipated annual take of up to 6 loggerhead, 6 leatherback, 12 green, 12 olive ridley, and 6 hawksbill sea turtles captured in the American Samoa Longline Fishery. The applicant proposes to flipper tag, measure, photograph, tissue sample, and attach satellite tags to an anticipated annual take of up to 6 (18 over three years) loggerhead, 13 (39 over three years) leatherback, 7 (21 over three years) green, and 41 (123 over three years) olive ridley sea turtles captured in the Hawaii Deep-Set Longline Fishery. The research would occur in the Pacific Ocean through April 1, 2015. No mortalities are expected from the research. Researchers would also collect sea turtle carcasses of animals killed in fishery activities that occur in the Pacific Ocean. All other information contained in the original document is unchanged.

Dated: May 18, 2009.
P. Michael Payne,
Chief, Permits, Conservation and Education Division, Office of Protected Resources, National Marine Fisheries Service.

[FR Doc. E9-12058 Filed 5-21-09; 8:45 am]

BILLING CODE 3510-22-S